DEPARTMENT OF ENERGY

Federal Energy Regulatory Commission

18 CFR Part 389

[Docket No. RM15-10-000; Order No. 805]

Display of OMB Control Numbers

AGENCY: Federal Energy Regulatory Commission, DOE.

ACTION: Final rule.

SUMMARY: The Commission is revising and updating its regulations related to the display of Office of Management and Budget (OMB) control numbers under the Paperwork Reduction Act. The Final Rule updates the existing table and revises the regulations to explain that an updated table displaying OMB control numbers is available on www.ferc.gov.

DATES: This rule will become effective March 11, 2015.

FOR FURTHER INFORMATION CONTACT: Ellen Brown (Technical Information), Federal Energy Regulatory Commission, 888 First Street, NE., Washington, DC 20426, (202) 502-8663, DataClearance@ferc.gov.

Christopher MacFarlane (Legal Information), Federal Energy Regulatory Commission, 888 First Street NE., Washington, DC 20426, (202) 502-6761, christopher.macfarlane@ferc.gov.

SUPPLEMENTARY INFORMATION:

I. Discussion

1. The Commission is revising and updating Part 389 of its regulations related to the display of Office of Management and Budget (OMB) control numbers,¹ by updating the existing table and revising the regulations to explain that an updated table displaying OMB control numbers is available on www.ferc.gov.

¹ 18 CFR 389.101 (2014).

2. Part 389 aids in fulfilling the requirements of the Paperwork Reduction Act ² to display current OMB control numbers for information collections. The Commission also displays OMB control numbers on its Web site at www.ferc.gov under “Documents and Filings” and then “Information Collections” or directly at http://www.ferc.gov/docs-filing/info-collections.asp. The Web site is updated regularly. For the most up-to-date information, interested persons are urged to consult the Commission's Web site.

² 44 U.S.C. 3501-3521 (1980).

II. Information Collection Statement

3. OMB's regulations require that it approve certain information collection requirements imposed by agency rule.³ This Final Rule does not contain new or revised information collection requirements and thus does not require OMB approval.

³ 5 CFR part 1320.

III. Environmental Analysis

4. The Commission is required to prepare an Environmental Assessment or Environmental Impact Statement for any action that may have a significant adverse effect on the quality of the human environment.⁴ Part 380 of the Commission's regulations provides exemptions to the requirement to prepare an Environmental Assessment or Environmental Impact Statement. Included is an exemption for procedural, ministerial or internal administrative actions and management.⁵ This Final Rule falls within that exemption; consequently, no environmental analysis is required.

⁴ Regulations Implementing the National Environmental Policy Act, Order No. 486, 52 FR 47897 (Dec. 17, 1987), FERC Stats. & Regs. ¶ 30,783 (1987).

⁵ 18 CFR 380.4(1).

IV. Regulatory Flexibility Act

5. The Regulatory Flexibility Act of 1980 (RFA) ⁶ generally requires a description and analysis of final rules that will have significant economic impact on a substantial number of small entities. This Final Rule, which revises and updates regulations on the display of OMB control numbers, will not have a significant economic impact on a substantial number of small entities. Thus, an analysis under the RFA is not required.

⁶ 5 U.S.C. 601-12.

V. Document Availability

6. In addition to publishing the full text of this document in the Federal Register, the Commission provides all interested persons an opportunity to view and/or print the contents of this document via the internet through the Commission's Home Page (http://www.ferc.gov) and in the Commission's Public Reference Room during normal business hours (8:30 a.m. to 5:00 p.m. Eastern time) at 888 First Street NE., Room 2A, Washington DC 20426.

7. From the Commission's Home Page on the internet, this information is available on eLibrary. The full text of this document is available on eLibrary in PDF and Microsoft Word format for viewing, printing, and/or downloading. To access this document in eLibrary, type the docket number excluding the last three digits of this document in the docket number field.

8. User assistance is available for eLibrary and the Commission's Web site during normal business hours from FERC Online Support at (202) 502-6652 (toll free at 1-866-208-3676) or email at ferconlinesupport@ferc.gov, or the Public Reference Room at (202) 502-8371, TTY (202) 502-8659. Email the Public Reference Room at public.referenceroom@ferc.gov.

VI. Effective Date

9. These regulations are effective March 11, 2015. Pursuant to 5 U.S.C. 553(d), this is not a substantive rule and thus may become effective less than 30 days from publication.

10. The Commission is issuing this rule as a Final Rule without a period for public comment. Under 5 U.S.C. 553(b), notice and comment procedures are unnecessary where a rulemaking concerns only agency procedure and practice, or where the agency finds that notice and comment are unnecessary. The Commission finds that notice and comment are unnecessary because the affected regulations are administrative in nature and will not substantially affect the rights of non-agency parties. Moreover, no new burden or regulatory requirement is imposed on regulated entities or the general public.

List of Subjects in 18 CFR Part 389

Reporting and recordkeeping requirements.

By the Commission.
Nathaniel J. Davis, Sr.,
Deputy Secretary.

In consideration of the foregoing, the Commission amends part 389, Chapter I, Title 18, Code of Federal Regulations, as follows:

PART 389—OMB CONTROL NUMBERS FOR COMMISSION INFORMATION COLLECTION REQUIREMENTS

1. The authority citation for part 389 continues to read as follows:

Authority: 44 U.S.C. 3501-3520.

2. Section 389.101 is revised to read as follows:

§ 389.101 OMB control numbers assigned pursuant to the Paperwork Reduction Act.

(a) Purpose. This part displays Office of Management and Budget (OMB) control numbers assigned to information collection requirements. This part aids in fulfilling the requirements of the Paperwork Reduction Act to display current OMB control numbers for these information collection requirements. The Commission also displays OMB control numbers on its Web site, www.ferc.gov. For the most current information, interested persons should consult the Commission's Web site under “Documents and Filings” and then “Information Collections” or directly at http://www.ferc.gov/docs-filing/info-collections.asp.

(b) Display.

18 CFR Part or section | OMB Control number
2.19 | 1902-0058, 1902-0115
2.20 | 1902-0170
2.55 | 1902-0128
2.400 | 1902-0075
4.31 | 1902-0073
4.32 | 1902-0073, 1902-0115
4.33 | 1902-0073
4.35 | 1902-0058, 1902-0115, 1902-0073, 1902-0145
4.36(a) | 1902-0073, 1902-1045
4.36(b) | 1902-0058, 1902-0115, 1902-0145
4.36(c) | 1902-0058, 1902-0115, 1902-0073
4.40 | 1902-0058
4.41 | 1902-0058
4.50 | 1902-0058
4.51 | 1902-0058
4.61 | 1902-0115
4.71 | 1902-0115
4.81 | 1902-0073
4.81(b)(5) | 1902-0145
4.82 | 1902-0073
4.84 | 1902-0073
4.92 | 1902-0115
4.95 | 1902-0115
4.96 | 1902-0115
4.102 | 1902-0115
4.104 | 1902-0115
4.107 | 1902-0115
4.108 | 1902-0115
4.201 | 1902-0058, 1902-0115
4.202 | 1902-0058, 1902-0115
4.301 | 1902-0058, 1902-0115
4.303 | 1902-0058, 1902-0115
5.2 | 1902-0058, 1902-0115
5.3(c)(1) | 1902-0058, 1902-0115
5.3(c)(2) | 1902-0058, 1902-0115
5.3(d)(1) | 1902-0058, 1902-0115
5.4 | 1902-0058, 1902-0115
5.5 | 1902-0058, 1902-0115
5.6 | 1902-0058, 1902-0115
5.11 | 1902-0058, 1902-0115
5.13 | 1902-0058, 1902-0115
5.15(b) | 1902-0058, 1902-0115
5.15(c) | 1902-0058, 1902-0115
5.15(d) | 1902-0058, 1902-0115
5.15(e) | 1902-0058, 1902-0115
5.15(f) | 1902-0058, 1902-0115
5.16 | 1902-0058, 1902-0115
5.17 | 1902-0058, 1902-0115
5.18 | 1902-0058, 1902-0115
5.18(d) | 1902-0058, 1902-0115
5.20 | 1902-0058, 1902-0115
5.21 | 1902-0058, 1902-0115
5.23(b) | 1902-0058, 1902-0115
5.27 | 1902-0058, 1902-0115
6.1 | 1902-0068
8.1 | 1902-0058, 1902-0115
8.2 | 1902-0058, 1902-0115
8.11 | 1902-0106
9 | 1902-0069
11.1(d)(4) | 1902-0136
11.3(c) | 1902-0136
11.4(d) | 1902-0136
11.6(i) | 1902-0136
11.16 | 1902-0087
16.4 | 1902-0058, 1902-0115
16.6 | 1902-0058, 1902-0115
16.7 | 1902-0058, 1902-0115
16.8 | 1902-0058, 1902-0115
16.9 | 1902-0058, 1902-0115
16.10 | 1902-0058, 1902-0115
16.11 | 1902-0058, 1902-0115
16.12 | 1902-0058, 1902-0115
16.14 | 1902-0058, 1902-0115
16.19 | 1902-0058, 1902-0115
16.20 | 1902-0058, 1902-0115
16.22 | 1902-0115
16.26 | 1902-0058, 1902-0115
20 | 1902-0043
24 | 1902-0079
25.1 | 1902-0145
33 | 1902-0082
34 | 1902-0043
35.1 | 1902-0096
35.2 | 1902-0096
35.3 | 1902-0096
35.5 | 1902-0096
35.7 | 1902-0096
35.8 | 1902-0096
35.9 | 1902-0096
35.10 | 1902-0096
35.10(a) | 1902-0096
35.10(b) | 1902-0255
35.11 | 1902-0096
35.12 | 1902-0096
35.13 | 1902-0096
35.14 | 1902-0137
35.15 | 1902-0096
35.16 | 1902-0096
35.17 | 1902-0096
35.18 | 1902-0096
35.19 | 1902-0096
35.19(a) | 1902-0096
35.22 | 1902-0096
35.23 | 1902-0096
35.25 | 1902-0096
35.26 | 1902-0096
35.28(f) | 1902-0096, 1902-0203
35.28(c), (d), (e) | 1902-0096, 1902-0233
35.28(g) | 1902-0096
35.28(g)(4) | 1902-0257
35.29 | 1902-0096
35.30 | 1902-0096
35.33 | 1902-0096
35.34(d) | 1902-0096, 1902-0082
35.34(g) | 1902-0096
35.35(h) | 1902-0239
35.37 | 1902-0234
35.38 | 1902-0234
35.40 | 1902-0234
35.41(d) | 1902-0250
35.42 | 1902-0234
35.47 | 1902-0096
36.1 | 1902-0170
37.5 | 1902-0173
37.6 | 1902-0233
37.7 | 1902-0233
37.8 | 1902-0173
38 | 1902-0173
38.2 | 1902-0265
39.3 | 1902-0225
39.5 | 1902-0225
39.6 | 1902-0225
39.7 | 1902-0225
39.8 | 1902-0225
39.10 | 1902-0225
39.11 | 1902-0225
39.12 | 1902-0225
39.13 | 1902-0225
40 | 1902-0225, 1092-0244, 1902-0248, 1902-0247, 1902-0246, 1902-0249, 1902-0252, 1902-0256, 1902-0258, 1902-0259, 1902-0260, 1902-0261, 1902-0263, 1902-0264, 1902-0269, 1902-0268, 1902-0270, 2902-0273, 1902-0275, 1902-0276
41.11 | 1902-0021
42.1 | 1902-0096
45 | 1902-0083
46.3 | 1902-0114
46.4 | 1902-0099
46.5 | 1902-0099
46.6 | 1902-0099
50 | 1902-0238
125 | 1902-0098
131.20 | 1902-0069
131.31 | 1902-0099
131.43 | 1902-0043
131.50 | 1902-0043
131.52 | 1902-0096
131.70 | 1902-0136
131.80 | 1902-0075
141.1 | 1902-0021
141.2 | 1902-0029
141.14 | 1902-0106
141.15 | 1902-0058, 1902-0115
141.51 | 1902-0140
141.300 | 1902-0171
141.400 | 1902-0205
141.500 | 1902-0267
152 | 1902-0116
153 | 1902-0062
154.4 | 1902-0155
154.7 | 1902-0154, 1902-0155
154.102-110 | 1902-0154
154.111 | 1902-0169
154.112 | 1902-0154
154.201 | 1902-0155
154.204-208 | 1902-0155
154.301-315 | 1902-0154
154.401-403 | 1902-0070
154.501-502 | 1902-0084
154.602-603 | 1902-0155
156.3-5 | 1902-0061
157.5-11 | 1902-0060
157.13-.20 | 1902-0060
157.53 | 1902-0060
157.201-.209 | 1902-0060
157.203(d) | 1902-0128
157.211 | 1902-0060
157.214-218 | 1902-0060
225 | 1902-0098
250.6 | 1902-0061
250.16 | 1902-0157
260.1 | 1902-0028
260.2 | 1902-0030
260.8 | 1902-0005
260.9 | 1902-0004
260.300 | 1902-0205
260.400 | 1902-0267
260.401 | 1902-0242
281 | 1902-0154
284.8 | 1902-0060
284.11 | 1902-0060
284.12 | 1902-0174
284.12(b)(4) | 1902-0265
284.13(c) | 1902-0169
284.13(d)(1) | 1902-0243
284.13(d)(2) | 1902-0169
284.13(e) | 1902-0060
284.14 | 1902-0243
284.102(e) | 1902-0086
284.123 | 1902-0086
284.126(a) | 1902-0060
284.126(b) | 1902-0253
284.221 | 1902-0060
284.224 | 1902-0060
284.261-271 | 1902-0144
284.286 | 1902-0157
284.288(a) | 1902-0242
284.288(b) | 1902-0086
284.403(a) | 1902-0242
284.403(b) | 1902-0086
284.501-505 | 1902-0154, 1902-0155, 1902-0086
292.207 | 1902-0075
292.208 | 1902-0058, 1902-0115
292.309-315 | 1902-0237
292.602 | 1902-0231
294.101 | 1902-0138
340 | 1902-0089
341 | 1902-0089
342 | 1902-0089
343 | 1902-0089, 1902-0180
344 | 1902-0089
346 | 1902-0089
347 | 1902-0089
348 | 1902-0089
356 | 1902-0098
357.2 | 1902-0022
357.3 | 1902-0019
357.4 | 1902-0206
357.5 | 1902-0267
366.2(d) | 1902-0254
366.4 | 1902-0218
366.7(a) | 1902-0166
368 | 1902-0215
369.1 | 1902-0215
380 | 1902-0128
381.105 | 1902-0132
381.106 | 1902-0132
381.108 | 1902-0132
381.302 | 1902-0132
381.303 | 1902-0132
381.304 | 1902-0132
381.305 | 1902-0132
382 | 1902-0132
385.206 | 1902-0180
385.2013 | 1902-0241
385.2014 | 1902-0241
388.113 | 1902-0197

[FR Doc. 2015-05323 Filed 3-10-15; 8:45 am]

BILLING CODE 6717-01-P